DEPARTMENT OF ENERGY

Federal Energy Regulatory Commission

Combined Notice of Filings #1

September 21, 2010.

Take notice that the Commission received the following electric corporate filings:

Docket Numbers: EC10-98-000.

Applicants: GDF SUEZ S.A., INTERNATIONAL POWER PLC.

Description: Joint Application for Authorization Under Section 203 of the Federal Power Act, Request for Waiver of Certain Commission Requirements, and Requests for Confidential Treatment of GDF SUEZ S.A. and International Power Plc.

Filed Date: 09/21/2010.

Accession Number: 20100921-5079.

Comment Date: 5 p.m. Eastern Time on Thursday, October 21, 2010.

Take notice that the Commission received the following electric rate filings:

Docket Numbers: ER10-308-003.

Applicants: Kleen Energy Systems, LLC.

Description: Kleen Energy Systems, LLC submits First Revised Sheet No 1 et al. to Rate Schedule FERC No 1.

Filed Date: 09/20/2010.

Accession Number: 20100921-0201.

Comment Date: 5 p.m. Eastern Time on Monday, October 4, 2010.

Docket Numbers: ER10-2779-000.

Applicants: Westerly Hospital Energy Company, LLC.

Description: Westerly Hospital Energy Company, LLC submits application for authorization to make wholesale sales of energy and capacity at negotiated market-based rates.

Filed Date: 09/20/2010.

Accession Number: 20100921-0202.

Comment Date: 5 p.m. Eastern Time on Tuesday, October 12, 2010.

Docket Numbers: ER10-2780-000.

Applicants: New Hampshire Union Leader.

Description: Union Leader Corporation submits an application for authorization to make wholesale of energy and capacity at negotiated, market-based rates.

Filed Date: 09/20/2010.

Accession Number: 20100921-0203.

Comment Date: 5 p.m. Eastern Time on Tuesday, October 12, 2010.

Docket Numbers: ER10-2781-000.

Applicants: California Independent System Operator Corporation.

Description: California Independent System Operator Corporation submits tariff filing per 35: 2010-09-20 CAISO Standard Capacity Product II Compliance ER10-1524 to be effective 8/22/2010.

Filed Date: 09/20/2010.

Accession Number: 20100920-5141.

Comment Date: 5 p.m. Eastern Time on Tuesday, October 12, 2010.

Docket Numbers: ER10-2782-000.

Applicants: Midwest Generation LLC.

Description: Midwest Generation LLC submits tariff filing per 35: Midwest Generation, LLC Reactive Supply and Voltage Control Tariff to be effective 9/21/2010.

Filed Date: 09/20/2010.

Accession Number: 20100920-5142.

Comment Date: 5 p.m. Eastern Time on Tuesday, October 12, 2010.

Docket Numbers: ER10-2783-000.

Applicants: Arthur Kill Power LLC.

Description: Arthur Kill Power LLC submits tariff filing per 35.12: NRG Arthur Kill Power—FERC Electric Tariff to be effective 9/20/2010.

Filed Date: 09/20/2010.

Accession Number: 20100920-5144.

Comment Date: 5 p.m. Eastern Time on Tuesday, October 12, 2010.

Docket Numbers: ER10-2784-000.

Applicants: Astoria Gas Turbine Power LLC.

Description: Astoria Gas Turbine Power LLC submits tariff filing per 35.12: Astoria Gas Turbine Power—FERC Electric Tariff to be effective 9/20/2010.

Filed Date: 09/20/2010.

Accession Number: 20100920-5146.

Comment Date: 5 p.m. Eastern Time on Tuesday, October 12, 2010.

Docket Numbers: ER10-2785-000.

Applicants: Chevron Coalinga Energy Company.

Description: Chevron Coalinga Energy Company submits its baseline tariff filing, FERC Electric Tariff, First Revised Volume No. 1, to be effective 9/21/2010.

Filed Date: 09/21/2010.

Accession Number: 20100921-5008.

Comment Date: 5 p.m. Eastern Time on Tuesday, October 12, 2010.

Docket Numbers: ER10-2786-000.

Applicants: Washington Gas Energy Services, Inc.

Description: Washington Gas Energy Services, Inc. submits their baseline tariff filing, FERC Electric Tariff, Second Revised Volume No 1, to be effective 9/21/2010.

Filed Date: 09/21/2010.

Accession Number: 20100921-5010.

Comment Date: 5 p.m. Eastern Time on Tuesday, October 12, 2010.

Docket Numbers: ER10-2787-000.

Applicants: Eurus Combine Hills II LLC.

Description: Eurus Combine Hills II LLC submits its baseline tariff filing, pursuant to Order No 714, to be effective 9/21/2010.

Filed Date: 09/21/2010.

Accession Number: 20100921-5011.

Comment Date: 5 p.m. Eastern Time on Tuesday, October 12, 2010.

Docket Numbers: ER10-2788-000.

Applicants: Florida Power Corporation.

Description: Florida Power Corporation submits tariff filing per 35.13(a)(2)(iii: Florida Power Corp. OATT Service Agreement No. 140 with The Energy Authority to be effective 9/1/2010.

Filed Date: 09/21/2010.

Accession Number: 20100921-5026.

Comment Date: 5 p.m. Eastern Time on Tuesday, October 12, 2010.

Docket Numbers: ER10-2789-000.

Applicants: Rainbow Energy Ventures, LLC.

Description: Rainbow Energy Ventures, LLC submits its baseline tariff filing, FERC Electric Tariff to be effective 9/21/2010.

Filed Date: 09/21/2010.

Accession Number: 20100921-5033.

Comment Date: 5 p.m. Eastern Time on Tuesday, October 12, 2010.

Docket Numbers: ER10-2791-000.

Applicants: Bayou Cove Peaking Power LLC.

Description: Bayou Cove Peaking Power LLC submits its baseline tariff filing, to be effective 9/21/2010.

Filed Date: 09/21/2010.

Accession Number: 20100921-5040.

Comment Date: 5 p.m. Eastern Time on Tuesday, October 12, 2010.

Docket Numbers: ER10-2792-000.

Applicants: Big Cajun I Peaking Power LLC.

Description: Big Cajun I Peaking Power LLC submits tariff filing per 35.12: Big Cajun I Peaking Power—FERC Electric Tariff to be effective 9/21/2010.

Filed Date: 09/21/2010.

Accession Number: 20100921-5046.

Comment Date: 5 p.m. Eastern Time on Tuesday, October 12, 2010.

Docket Numbers: ER10-2793-000.

Applicants: DeSoto County Generating Company, LLC.

Description: DeSoto County Generating Company, LLC submits tariff filing per 35.12: Market-based Rate Tariff in Compliance with Order No. 714 to be effective 9/21/2010.

Filed Date: 09/21/2010.

Accession Number: 20100921-5051.

Comment Date: 5 p.m. Eastern Time on Tuesday, October 12, 2010.

Docket Numbers: ER10-2794-000.

Applicants: EDF Trading North America, LLC.

Description: EDF Trading North America, LLC submits tariff filing per 35.12: Baseline Filing to be effective 9/21/2010.

Filed Date: 09/21/2010.

Accession Number: 20100921-5052.

Comment Date: 5 p.m. Eastern Time on Tuesday, October 12, 2010.

Docket Numbers: ER10-2795-000.

Applicants: Conemaugh Power LLC.

Description: Conemaugh Power LLC submits its baseline tariff filing, FERC Electric Tariff, Volume No 1, to be effective 9/21/2010.

Filed Date: 09/21/2010.

Accession Number: 20100921-5055.

Comment Date: 5 p.m. Eastern Time on Tuesday, October 12, 2010.

Docket Numbers: ER10-2796-000.

Applicants: New England Electric Transmission Corporation.

Description: New England Electric Transmission Corporation submits its baseline tariff filing to Create Tariff Identifier for Service Agreements and Rate Schedules, to be effective 9/21/2010.

Filed Date: 09/21/2010.

Accession Number: 20100921-5056.

Comment Date: 5 p.m. Eastern Time on Tuesday, October 12, 2010.

Docket Numbers: ER10-2797-000.

Applicants: Nevada Power Company.

Description: Nevada Power Company submits tariff filing per 35: Baseline Filing-NPC Tariff Vol. No. 4-Electric Service Coordination Tariff to be effective 9/21/2010.

Filed Date: 09/21/2010.

Accession Number: 20100921-5057.

Comment Date: 5 p.m. Eastern Time on Tuesday, October 12, 2010.

Docket Numbers: ER10-2798-000.

Applicants: Connecticut Jet Power LLC.

Description: Connecticut Jet Power LLC submits tariff filing per 35.12: Connecticut Jet Power—FERC Electric Tariff to be effective 9/21/2010.

Filed Date: 09/21/2010.

Accession Number: 20100921-5063.

Comment Date: 5 p.m. Eastern Time on Tuesday, October 12, 2010.

Docket Numbers: ER10-2799-000.

Applicants: Devon Power LLC.

Description: Devon Power LLC submits tariff filing per 35.12: Devon Power—FERC Electric Power to be effective 9/21/2010.

Filed Date: 09/21/2010.

Accession Number: 20100921-5065.

Comment Date: 5 p.m. Eastern Time on Tuesday, October 12, 2010.

Docket Numbers: ER10-2800-000.

Applicants: Nevada Power Company.

Description: Application of Nevada Power Company for Cancellation of FERC Electric Tariff, Volume No. 2. as part of the eTariff baseline filing process.

Filed Date: 09/21/2010.

Accession Number: 20100921-5082.

Comment Date: 5 p.m. Eastern Time on Tuesday, October 12, 2010.

Docket Numbers: ER10-2801-000.

Applicants: Dunkirk Power LLC.

Description: Dunkirk Power LLC submits tariff filing per 35.12: Dunkirk Power—FERC Electric Tariff to be effective 9/21/2010.

Filed Date: 09/21/2010.

Accession Number: 20100921-5083.

Comment Date: 5 p.m. Eastern Time on Tuesday, October 12, 2010.

Docket Numbers: ER10-2802-000.

Applicants: Kimberly-Clark Corporation.

Description: Kimberly-Clark Corporation submits tariff filing per 35.12: Baseline Tariff Filing to be effective 9/21/2010.

Filed Date: 09/21/2010.

Accession Number: 20100921-5090.

Comment Date: 5 p.m. Eastern Time on Tuesday, October 12, 2010.

Take notice that the Commission received the following public utility holding company filings:

Docket Numbers: PH10-21-000.

Applicants: IGS Utilities LLC, MGH LLC, Mountaineer Gas Holdings Limited Partnership.

Description: FERC 65A—Notification of Exemption of IGS Utilities, et al.

Filed Date: 09/20/2010.

Accession Number: 20100920-5177.

Comment Date: 5 p.m. Eastern Time on Tuesday, October 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25076 Filed 10-5-10; 8:45 am]

BILLING CODE 6717-01-P